DEPARTMENT OF AGRICULTURE

Forest Service

Black Hills National Forest Advisory Board; Meeting

AGENCY: Forest Service, USDA.

ACTION: Notice of meeting.

SUMMARY: The Black Hills National Forest Advisory Board (Board) will meet in Rapid City, South Dakota. The Board is established consistent with the Federal Advisory Committee Act of 1972 (5 U.S.C. App. II) (FACA), and the Forest and Rangeland Renewable Resources Planning Act of 1974 (16 U.S.C. 1600 et.seq.) (RPA), the National Forest Management Act of 1976 (16 U.S.C. 1612) (NFMA), and the Federal Public Lands Recreation Enhancement Act (Pub. L. 108-447) (REA). The purpose of the Board is to provide advice and recommendations on a broad range of forest issues such as forest plan revisions or amendments and forest health, including fire and mountain pine beetle epidemics, travel management, forest monitoring and evaluation, recreation fees, and site-specific projects having forest-wide implications. The meeting is open to the public. The purpose of the meeting is: (1) To provide information to, and receive comments and recommendations from the Board regarding recreational facility operations, motorized travel permit fees, mountain pine beetle management actions; and (2) to provide an update to the Board regarding management actions resulting from completion of the Cave Management Environmental Impact Statement.

DATES: The meeting will be held October 16, 2013, at 1:00 p.m.

ADDRESSES: The meeting will be held at the Forest Service Mystic Ranger District Office, 8221 South Highway 16, Rapid City SD. Written comments may be submitted as described under Supplementary Information. All comments, including names and addresses when provided, are placed in the record and are available for public inspection and copying. The public may inspect comments received at the Supervisor's Office, Black Hills National Forest, 1019 North Fifth Street, Custer, SD. Please call ahead to Scott Jacobson, Committee Management Officer, at 605-673-9216, to facilitate entry into the building to view comments.

FOR FURTHER INFORMATION CONTACT: Scott Jacobson, Committee Management Officer, Black Hills National Forest Supervisor's Office, 605-673-9216, sjjacobson@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The following business will be conducted: (1) Orientation to Forest Funding including appropriations and trends, (2) an update and discussion on recreational facility operations, (3) a discussion regarding travel management activities and fees; (4) a discussion regarding the mountain pine beetle response project; (5) an update on management actions resulting from the White Nose Syndrome in Bats/Cave Management Environmental Impact Statement. Anyone who would like to bring related matters to the attention of the committee may file written statements with the committee staff before the meeting. The agenda will include time for people to make oral statements of three minutes or less. Individuals wishing to make an oral statement should request in writing by October 2, 2013, to be scheduled on the agenda. Written comments and time requests for oral comments must be sent to Scott Jacobson, Supervisor's Office, Black Hills National Forest, 1019 North Fifth Street, Custer, SD 57730, or by email to sjjacobson@fs.fed.us, or via facsimile to 605-673-9208. A summary of the meeting will be posted at http://www.fs.usda.gov/main/blackhills/workingtogether/advisorycommittees within 45 days of the meeting.

Meeting Accommodations: If you require sign language interpreting, assistive listening devices, or other reasonable accommodation, please request this in advance of the meeting by contacting the person listed in the section titled For Further Information Contact. All reasonable accommodation requests are managed on a case by case basis.

Dated: September 19, 2013.
Dennis L. Jaeger,
Acting Forest Supervisor.

[FR Doc. 2013-23451 Filed 9-25-13; 8:45 am]

BILLING CODE 3410-11-P